DEPARTMENT OF THE INTERIOR

Bureau of Land Management

[NM-930-00-1020-PH]

Availability of Proposed Statewide Resource Management Plan Amendment/Final Environmental Impact Statement, of Land Use Plans in New Mexico for Implementation of New Mexico Standards for Public Land Health and Guidelines for Livestock Grazing Management

AGENCY: Bureau of Land Management, New Mexico State Office.

ACTION: Notice of Availability.

SUMMARY: The Bureau of Land Management (BLM) announces the availability of the Proposed Statewide Resource Management Plan Amendment/Final Environmental Impact Statement, of Land Use Plans in New Mexico for Implementation of New Mexico Standards for Public Land Health and Guidelines for Livestock Grazing Management.

The Proposed Statewide Resource Management Plan

Amendment/Final Environmental Impact Statement addresses the effects of adopting statewide standards for public land health and guidelines for livestock grazing on BLM administered lands in New Mexico. When adopted the standards and guidelines would be incorporated into eight BLM land use plans that cover approximately 13.5 million acres of BLM-administered land. This action is proposed in accordance with revised regulations for livestock grazing on BLM-administered lands (43 CFR 4100).

The Proposed Plan is the New Mexico Resource Advisory Council (RAC) Alternative. The RAC modified the alternative based on public comment on the Draft, and to make the alternative more in concert with the regulations (43 CFR § 4180). All parts of the Proposed Plan may be protested. Only those persons or organizations who participated in the planning amendment and analysis process may protest issues previously raised in the Draft.

ADDRESSES: Protests must be sent to the Director (WO-210), Bureau of Land Management, Attn.: Brenda Williams, 1849 C Street, NW, Washington, DC 20240. Also send a Carbon Copy to the Office of the Lieutenant Governor, State Capitol, Santa Fe, New Mexico 87505—Attention Cecilia Abeyta. Protests must be postmarked on or before February 28, 2000. The protest must include the following information: (1) Name, mailing address, telephone number, and interest of the person filing the protest; (2) a statement of the issue or issues being protested; (3) a statement of the parts or part being protested; (4) a copy of all documents addressing the issue or issues that were submitted during the planning amendment process by the protesting party or an indication of the date the issue or issues were discussed for the records; and (5) a concise statement explaining why the BLM New Mexico State Director's decision is wrong. For those who do not want to protest the Proposed Plan but wish to comment on the Proposed Plan, they may do so. All comments received will be considered in preparation of the Record of Decision. Comments must also be postmarked on or before February 28, 2000 and sent to: BLM—S&G Comment, NM931, P.O. Box 27115, Santa Fe, NM 87502-0115. At the end of the 30-day protest period, and following resolution of any protests, a Record of Decision will be published and the Resource Management Plans updated to reflect the Resource Management Plan Amendment changes. Single copies of the Proposed Statewise Resource Management Plan Amendment/Final Environmental Impact Statement can be obtained by writing or calling J.W. Whitney the BLM Project Team Leader. A limited number of copies of the Proposed Statewide Resource Management Plan Amendment/Final Environmental Impact Statement are available at BLM Field Offices in Farmington, Taos, Albuquerque, Socorro, Las Cruces, Roswell, Carlsbad and at the BLM State Office in Santa Fe, NM.

FOR FURTHER INFORMATION CONTACT: J.W. Whitney, BLM Project Leader, BLM, New Mexico State Office, P.O. Box 27115, Santa Fe, NM 87502-7115; telephone 505-438-7438.

SUPPLEMENTARY INFORMATION: Four alternatives are considered in detail in the Proposed Statewide Resource Management Plan Amendment/Final Environmental Impact Statement. The Four alternatives include: No Action Alternative (continuation of current management), RAC Alternative (Proposed Plan), County Alternative, and Fallback Alternative.

The RAC Alternative (Proposed Plan) has four Standards which include: an Upland Standard, a Biotic Standard, a Riparian Standard, and a Sustainable Communities and Human Dimension Standard.

Dated: January 14, 2000.
M.J. Chavez,
State Director.

[FR Doc. 00-1593 Filed 1-21-00; 8:45 am]

BILLING CODE 4310-FB-M